DEPARTMENT OF ENERGY

Federal Energy Regulatory Commission

[Project No. 11910-002 Oregon]

Applegate Dam; Notice of Availability of Final Environmental Assessment

May 2, 2008.

In accordance with the National Environmental Policy Act of 1969 and Federal Energy Regulatory Commission (Commission) regulations, 18 CFR Part 380 (Order No. 486, 52 FR 47897), Office of Energy Projects staff have reviewed Symbiotics, LLC's application for the proposed Applegate Dam Project and prepared this final environmental assessment (FEA). The proposed project would be located at the existing U.S. Army Corps of Engineers' (Corps) Applegate dam located at river mile 45.7 on the Applegate River, near the town of Medford, in Jackson County, Oregon. The proposed project facilities would occupy 7.1 acres of federal land administered by the Corps below and adjacent to the dam. In addition, the project boundary would include 2.32 acres of National Forest System land and 0.66 acre of U.S. Bureau of Land Management land.

This FEA contains the Commission staff's analysis of the potential future environmental effects of the project. Staff has concluded that licensing the project, with appropriate environmental protective measures, would not constitute a major federal action that would significantly affect the quality of the human environment.

A copy of the FEA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via e-mail of new filings and issuances related to this or other pending projects. For assistance, contact FERC Online Support.

Please contact Tim Looney by telephone at (202) 502-6096 or by e-mail at Timothy.Looney@ferc.gov if you have any questions.

Kimberly D. Bose,
Secretary.

[FR Doc. E8-10297 Filed 5-8-08; 8:45 am]

BILLING CODE 6717-01-P